ENVIRONMENTAL PROTECTION AGENCY

[EPA-HQ-OPP-2009-1017; FRL-9943-66]

Notice of Receipt of Requests To Voluntarily Cancel Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by registrants to voluntarily cancel certain pesticide registrations and amend one pesticide registration. The amendment request would delete the following uses of MGK 264: Outdoor ground applications (tall grass, shrubbery, around lawns, corrals, feed lots, swine lots, zoos); and direct applications to beef cattle, dairy cattle, and horses. The product cancellation requests listed herein would not terminate the last products registered for these pesticides for use in the United States. EPA intends to grant these cancellation and amendment requests at the close of the comment period for this announcement unless the Agency receives substantive comments within the comment period that would merit its further review of the requests, or unless the registrants withdraw their requests. If these requests are granted, any sale, distribution, or use of products listed in this notice will be permitted after the registration has been cancelled or amended only if such sale, distribution, or use is consistent with the terms as described in the final order.

DATES: Comments must be received on or before June 6, 2016.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Miguel Zavala, Pesticide Re-Evaluation Division (7508P), Office of Pesticide Programs, Environmental Protection Agency, 1200 Pennsylvania Ave. NW., Washington, DC 20460-0001; telephone number: (703) 347-0504; email address: zavala.miguel@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel certain pesticide products and amend one product registration for MGK 264 by deleting specific uses listed in Table 2 of this unit. The affected products and the registrants making the requests are identified in Tables 1-3 of this unit.

Unless a request is withdrawn by the registrant or if the Agency determines that there are substantive comments that warrant further review of the request, EPA intends to issue an order in the Federal Register cancelling and amending the affected registrations.

Table 1—Product Registrations With Pending Requests for Cancellation
Registration No. | Product name | Active ingredient
100-1004 | Demon EC Insecticide | Cypermethrin.
100-1006 | Probuild TC Termiticide | Cypermethrin.
100-1301 | Cypermethrin 250 EC Manufacturing Use Product | Cypermethrin.
100-1302 | Cypermethrin ME 2.0% Concentrate | Cypermethrin.
100-1303 | Cypermethrin ME 0.2% RTU | Cypermethrin.
100-1455 | Medley Herbicide | Prodiamine and Mesotrione.
228-726 | Nufarm Prohexadione Calcium Technical | Prohexadione calcium.
499-20204 | Babolna Insect Attractant Trap | 2-Cyclopenten-1-one, 2-hydroxy-3-methyl-.
1020-1 | Oakite Sanitizer No. 1 | Alkyl* dimethyl benzyl ammonium chloride *(60%C14, 30%C16, 5%C18, 5%C12).
5905-584 | Helena GA-142 | Indole-3-butyric acid, and Cytokinin (as kinetin).
6836-25 | Barquat 4250 | Alkyl* dimethyl benzyl ammonium chloride *(60%C14, 30%C16, 5%C18, 5%C12) and Alkyl* dimethyl ethylbenzyl ammonium chloride *(50%C12, 30%C14, 17%C16, 3%C18).
6836-201 | Barquat MM-55I | Alkyl* dimethyl benzyl ammonium chloride *(95%C14, 3%C12, 2%C16).
6836-284 | Lonza Formula LNZ-64 | 1-Decanaminium, N-decyl-N,N-dimethyl-, chloride and 1,3-Propanediamine, N-(3-aminopropyl)-N-dodecyl-.
8329-74 | Arosurf MSF | POE isooctadecanol.
35935-97 | Flumioxazin Technical | Flumioxazin.
42750-267 | CFI-Star-IFTZ-35 ST | Fludioxonil, Imidacloprid, Metalaxyl, Thiabendazole, and Tebuconazole.
42750-268 | CFI-Star-IFTZ-10 ST | Fludioxonil, Imidacloprid, Metalaxyl, Thiabendazole, and Tebuconazole.
47000-101 | CT-42 Lice Spray | Pyrethrins and Piperonyl butoxide.
67690-40 | Promite 50WP | Fenbutatin-oxide.
72642-9 | Assurity Cat | Spinetoram (minor component (4-methyl)) and Spinetoram (major component (4,5-dihydro)).
73314-9 | Chromo Bio-Insecticide TGAI | “Chromobacterium” subtsugae strain PRAA4-1 cells and spent fermentation media.
73314-10 | Chromo Bio-Insecticide EP | “Chromobacterium” subtsugae strain PRAA4-1 cells and spent fermentation media.
73801-1 | Deltamethrin Technical | Deltamethrin.
74075-2 | Intace Fungicide B-350 | Carbendazim.
81002-2 | Chlorine Free Splashes Sanitizer | Poly(iminoimidocarbonyliminoimidocarbonyliminohexamethylene) hydrochloride.
81002-3 | Splashes Too Swimming Pool Sanitizer | Poly(iminoimidocarbonyliminoimidocarbonyliminohexamethylene) hydrochloride.
85678-16 | Acephate Technical | Acephate.
90518-1 | Klean Offz Disinfectant Wipes | Alkyl* dimethyl benzyl ammonium chloride *(50%C14, 40%C12, 10%C16), 1-Decanaminium, N-decyl-N,N-dimethyl-, chloride, 1-Octanaminium, N,N-dimethyl-N-octyl-, chloride, and 1-Decanaminium, N,N-dimethyl-N-octyl-, chloride.

Table 2—Product Registration With Pending Request for Amendment
Registration No. | Product name | Active ingredient | Uses to be deleted
89459-27 | Prentox Pyronyl Oil Concentrate #OR-3610-A | MGK 264, Piperonyl butoxide, Pyrethrins | Outdoor ground applications (tall grass, shrubbery around lawns, corrals, feed lots, swine lots, zoos); beef cattle, dairy cattle, and horses.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA Company No. | Company name and address
100 | Syngenta Crop Protection, LLC., 410 Swing Road, P.O. Box 18300, Greensboro, NC 27419-8300.
228 | Nufarm Americas, Inc., 4020 Aerial Center Parkway, Suite 101, Morrisville, NC 27560.
499 | BASF Corporation, 26 Davis Drive, P.O. Box 13528, Research Triangle Park, NC 27709-3528.
1020 | Chemetall U.S., Inc., 675 Central Ave., New Providence, NJ 07974-0007.
5905 | Helena Chemical Company, 7664 Smythe Farm Road, Memphis TN 38120.
6836 | Lonza, Inc., 90 Boroline Road, Allendale, NJ 07401.
8329 | Clarke Mosquito Control Products, Inc., 675 Sidwell Court, St. Charles, IL 60174.
35935 | Nufarm Limited, 4020 Aerial Center Parkway, Suite 101, Morrisville, NC 27560.
42750 | Albaugh, LLC., P.O. Box 2127, Valdosta, GA 31604-2127.
47000 | Chem-Tech, LTD., 110 Hopkins Drive, Randolph, WI 53956.
67690 | Sepro Corporation, 11550 N. Meridian St., Suite 600, Carmel, IN 46032-4565.
72642 | Elanco Animal Health, 2500 Innovation Way, P.O. Box 708, Greenfield, IN 46140.
73314 | Novozymes BioAG, Inc., 1150 Conn. Ave. NW., Suite 1100, Washington, DC 20036.
73801 | Targos Chemicals India, LTD, 115 Obtuse Hill Road, Brookfield, CT 06804.
74075 | Intace, Agent: Delta Analytical Corp., 12510 Prosperity Drive, Suite 160, Silver Spring, MD 20904.
81002 | Splashes, Inc., 90 Boroline Road, Allendale, NJ 07401.
85678 | Red Eagle International, LLC, Agent: Wagner Regulatory Associates, P.O. Box 640, Hockessin, DE 19707.
89459 | Central Garden & Pet Company, 1501 East Woodfield Road, Suite 200, West Schaumburg, IL 60173.
90518 | Savvy Traveler, LLC., 9891 Irvine Center Drive, Suite 100, Irvine, CA 92618.

III. What is the Agency's authority for taking this action?

Section 6(f)(1) of FIFRA (7 U.S.C. 136d(f)(1)) provides that a registrant of a pesticide product may at any time request that any of its pesticide registrations be cancelled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II requested that EPA waive the 180-day comment period. Accordingly, EPA will provide a 30-day comment period on the proposed requests.

IV. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and amendments to delete uses are granted, the Agency intends to publish the cancellation order in the Federal Register.

In any order issued in response to these requests for cancellation of product registrations and for an amendment to delete a use, EPA proposes to include the following provisions for the treatment of any existing stocks of the products listed in Tables 1 and 2 of Unit II.

1. For product 100-1455, the registrant has indicated to the Agency via written response that the product was never produced or sold. Therefore, EPA anticipates that no existing stocks provision is needed for the registrant or persons other than the registrant.

2. For the products 6836-25, 6836-201, 6836-284, 74075-2, 81002-2, and 81002-3, the registrants have indicated to the Agency that there are no stocks of the products in the channels of trade. Therefore, EPA anticipates that the registrants do not need an existing stocks provision. Persons other than the registrant will generally be allowed to sell, distribute, or use existing stocks until such stocks are exhausted, provided that such sale, distribution, or use is consistent with the terms of the previously approved labeling on, or that accompanied, the cancelled product.

3. For product registration 47000-101, ChemTech requested 12 months to manufacture and distribute existing stocks. However, since their stated goal was to complete sales and distribution by March 2016, EPA anticipates that the registrant will not need an existing stocks provision. Persons other than the registrant will generally be allowed to sell, distribute, or use existing stocks until such stocks are exhausted, provided that such sale, distribution, or use is consistent with the terms of the previously approved labeling on, or that accompanied, the cancelled product.

4. For product 67690-40, the registrant requested an existing stocks provision to sell and distribute product until December 31, 2016, and as of that date will no longer have any current stock. Therefore, EPA anticipates allowing the registrant to sell and distribute existing stocks of the product through December 31, 2016. Thereafter, the registrant will be prohibited from selling and distributing the product, except for export consistent with FIFRA section 17 (7 U.S.C. 136o) or for proper disposal. Persons other than the registrant will generally be allowed to sell, distribute, or use existing stocks until such stocks are exhausted, provided that such sale, distribution, or use is consistent with the terms of the previously approved labeling on, or that accompanied, the cancelled product.

5. For the product 89459-27, once EPA has approved the product label reflecting the requested amendments to delete specific uses, the registrant will be permitted to sell or distribute the product under the previously approved labeling for a period of 18 months after the date of Federal Register publication of the cancellation order, unless other restrictions have been imposed. Thereafter, the registrant will be prohibited from selling or distributing the product whose label includes the deleted uses identified in Table 2 of Unit II., except for export consistent with FIFRA section 17 or for proper disposal. Persons other than the registrant will generally be allowed to sell, distribute, or use existing stocks of the amended product whose label includes the deleted uses until supplies are exhausted, provided that such sale, distribution, or use is consistent with the terms of the previously approved labeling on, or that accompanied, the amended product.

6. For all other products identified in Table 1 of Unit II, EPA anticipates allowing the registrants to sell and distribute existing stocks of voluntarily cancelled products for 1 year after the effective date of the cancellation, which will be the date of publication of the cancellation order in the Federal Register. Thereafter, registrants will be prohibited from selling or distributing the products identified in Table 1 of Unit II., except for export consistent with FIFRA section 17 (7 U.S.C. 136o) or for proper disposal. Persons other than the registrant will generally be allowed to sell, distribute, or use existing stocks of cancelled products until supplies are exhausted, provided that such sale, distribution, or use is consistent with the terms of the previously approved labeling on, or that accompanied, the cancelled products.

Authority: 7 U.S.C. 136 et seq.

Dated: April 28, 2016.
Yu-Ting Guilaran,
Director, Pesticide Re-Evaluation Division, Office of Pesticide Programs.

[FR Doc. 2016-10737 Filed 5-5-16; 8:45 am]

BILLING CODE 6560-50-P